DEPARTMENT OF COMMERCE

National Oceanic and Atmospheric Administration

RIN 0648-XC081

Caribbean Fishery Management Council; Public Hearings and Scoping Meeting

AGENCY: National Marine Fisheries Service (NMFS), National Oceanic and Atmospheric Administration (NOAA), Commerce.

ACTION: Notice.

SUMMARY: The Caribbean Fishery Management Council will hold two public hearings to obtain input from fishers, the general public, and the local agencies representatives on the Draft Amendment 4 to the Fishery Management Plan for Corals and Reef Associated Plants and Invertebrates of Puerto Rico and the U.S. Virgin Islands (dealing with seagrasses) and Draft Amendment 4 to the Fishery Management Plan for the Reef Fish Fishery of Puerto Rico and the U.S. Virgin Islands (dealing with size limits for parrotfish); and one Scoping Meeting on Options for Island-Specific Fishery Management Plans (FMPs) in the U.S. Caribbean.

DATES: The public hearings and scoping meeting will be held in July. For specific dates and times see Supplementary Information under the heading Meetings, Dates, and Locations.

ADDRESSES: The public hearings and scoping meeting will be held in Puerto Rico and in the U.S. Virgin Islands. For specific locations see SUPPLEMENTARY INFORMATION under the heading Meetings, Dates, and Locations.

FOR FURTHER INFORMATION CONTACT: Caribbean Fishery Management Council, 268 Muñoz Rivera Avenue, Suite 1108, San Juan, Puerto Rico 00918-1920, telephone (787) 766-5926.

SUPPLEMENTARY INFORMATION:

Meetings, Dates, and Locations

Puerto Rico

July 23, 2012, DoubleTree by Hilton San Juan, 105 De Diego Avenue, San Juan, Puerto Rico 00914.

July 24, 2012, Asociación de Pescadores, Villa Pesquera Playa Hucar, 66.7 Km Highway 3 Naguabo, Puerto Rico 00718.

July 25, 2012, Holiday Inn Mayagüez, 2701 Highway #2, Mayagüez, Puerto Rico 00680.

July 26, 2012, Ponce Holiday Inn, 3315 Ponce by Pass, Ponce, Puerto Rico 00731.

U.S. Virgin Islands

July 24, 2012, Windward Passage Hotel, Veterans Drive, Charlotte Amalie, St. Thomas, U.S. Virgin Islands 00804.

July 25, 2012, The Buccaneer Hotel, 5007 Estate Shoys, Christiansted, St. Croix, U.S. Virgin Islands 00820.

The public hearings will be held from 6 p.m. to 7 p.m., for seagrass; from 7:10 p.m. to 8 p.m., for parrotfish; and the scoping meeting for island-specific management from 8 p.m. to 10 p.m.

The Caribbean Fishery Management Council will hold two public hearings and one scoping meeting to receive public input on the following management alternatives:

Public Hearings

Draft Amendment 4 to the Fishery Management Plan for the Reef Fish Fishery of Puerto Rico and the U.S. Virgin Islands (Public Hearing Dealing With Size Limits for Parrotfish)

Action 1: Alternatives for Parrotfish Commercial Size Limits

Alternative 1: No Action: Do not establish minimum size limits for the commercial sector harvest of the parrotfish unit of the reef fish fishery.

Alternative 2: Establish minimum size limits for the commercial sector harvest of the parrotfish unit of the reef fish fishery in St. Croix.

No Commercial Minimum Size Limit

a. 9 inches fork length (FL)

b. 10 inches FL

c. 11 inches FL

d. 12 inches FL

Alternative 3: Establish minimum size limits for the commercial sector harvest of the parrotfish unit of the reef fish fishery in St. Thomas/St. John.

a. No Commercial Minimum Size Limit

b. 9 inches FL

c. 10 inches FL

d. 11 inches FL

e. 12 inches FL

Alternative 4: Establish minimum size limits for the commercial sector harvest of the parrotfish unit of the reef fish fishery in Puerto Rico.

a. No Commercial Minimum Size Limit

b. 9 inches FL

c. 10 inches FL

d. 11 inches FL

e. 12 inches FL

Action 2: Alternatives for Parrotfish Recreational Size Limits

Alternative 1: No Action: Do not establish minimum size limits for the recreational sector of the parrotfish unit of the reef fish fishery.

Alternative 2: Establish minimum size limits for the recreational sector harvest of the parrotfish unit of the reeffish fishery in St. Croix.

No Recreational Minimum Size Limit

a. 9 inches FL

b. 10 inches FL

c. 11 inches FL

d. 12 inches FL

Alternative 3: Establish minimum size limits for the recreational sector harvest of the parrotfish unit of the reef fish fishery in St. Thomas/St. John.

a. No Recreational Minimum Size Limit

b. 9 inches FL

c. 10 inches FL

d. 11 inches FL

e. 12 inches FL

Alternative 4: Establish minimum size limits for the recreational sector harvest of the parrotfish unit of the reef fish fishery in Puerto Rico.

a. No Recreational Minimum Size Limit

b. 9 inches FL

c. 10 inches FL

d. 11 inches FL

e. 12 inches FL

Draft Amendment 4 to the Fishery Management Plan for Corals and Reef Associated Plants and Invertebrates of Puerto Rico and the U.S. Virgin Islands (public hearing dealing with seagrasses)

Proposed Action

The Caribbean Fishery Management Council proposes: To modify the management of seagrass species included in the Corals and Reef Associated Plants and Invertebrates Fishery Management Plan. There are four alternatives proposed for this action:

Alternative 1: No Action. Do not modify the management of seagrass species listed in the Corals and Reef Associated Plants and Invertebrates Fishery Management Plan. Retain current management reference points or proxies for seagrass species.

Alternative 2: Prohibit the harvest in the U.S. Caribbean exclusive economic zone of seagrass species listed in the Corals and Reef Associated Plants and Invertebrates Fishery Management Plan.

Sub-Alternative 2(a): Prohibit harvest and establish an annual catch limit = 0 for seagrass species listed in the Corals and Reef Associated Plants and Invertebrates Fishery Management Plan.

Sub-Alternative 2(b): Prohibit harvest and establish an annual catch limit ≥ 1 lb. wet weight for the seagrass species listed in the Corals and Reef Associated Plants and Invertebrates Fishery Management Plan to account for harvest associated with educational or restoration purposes.

Alternative 3: Designate the seagrass species listed in the Corals and Reef Associated Plants and Invertebrates Fishery Management Plan as Ecosystem Component species as defined in the Magnuson-Stevens Act National Standard 1 Guidelines.

Alternative 4: (Preferred) Remove all species of seagrass from the Corals and Reef Associated Plants and Invertebrates Fishery Management Plan

Scoping Meetings

Options for Island-Specific Fishery Management Plans (FMPs) in the U.S. Caribbean (scoping meeting)

Option 1—No Action

Do not modify the existing species-specific FMPs. NOAA Fisheries and the Caribbean Council would continue to manage federal fisheries in the U.S. Caribbean EEZ under the Spiny Lobster, Reef Fish, Coral, and Queen Conch FMPs.

Option 2—The Four Island FMP Approach

Create new island-specific FMPs for Puerto Rico, St. Croix, St. Thomas, and St. John. Under this option, the Caribbean Council and NOAA Fisheries would manage the EEZ resources under separate FMPs for each of these islands.

Option 3—The Three Island FMP Approach

Create three new island-specific FMPs for Puerto Rico, St. Croix and St. Thomas/St. John. The Caribbean Council and NOAA Fisheries would combine management of the St. Thomas and St. John EEZ resources. The St. Croix and Puerto Rico EEZ resources would be managed under separate FMPs.

Option 4—The Two Island FMP Approach-Puerto Rican Bank Approach

This option would allow the Caribbean Council and NOAA Fisheries to develop two island-specific FMPs. The Caribbean Council and NOAA Fisheries would combine management of the Puerto Rico, St. Thomas, and St. John EEZ resources but would manage the St. Croix EEZ resources under separate FMPs.

Special Accommodations

These meetings are physically accessible to people with disabilities. For more information or request for sign language interpretation and other auxiliary aids, please contact Mr. Miguel A. Rolón, Executive Director, Caribbean Fishery Management Council, 268 Muñoz Rivera Avenue, Suite 1108, San Juan, Puerto Rico, 00918-1920, telephone (787) 766-5926, at least five days prior to the meeting date.

Authority: 16 U.S.C. 1801 et seq.

Dated: June 27, 2012.
James P. Burgess,
Acting Director, Office of Sustainable Fisheries, National Marine Fisheries Service.

[FR Doc. 2012-16153 Filed 6-29-12; 8:45 am]

BILLING CODE 3510-22-P